DEPARTMENT OF COMMERCE

International Trade Administration

[A-588-869]

Diffusion-Annealed Nickel-Plated Flat-Rolled Steel Products From Japan: Final Results of the Expedited First Five-Year Sunset Review of the Antidumping Duty Order

AGENCY: Enforcement and Compliance, International Trade Administration, Department of Commerce.

SUMMARY: As a result of this sunset review, the Department of Commerce (Commerce) finds that revocation of the antidumping duty order on diffusion-annealed nickel-plated flat-rolled steel products from Japan would be likely to lead to continuation or recurrence of dumping at the levels indicated in the “Final Results of Review” section of this notice.

DATES: Applicable August 5, 2019.

FOR FURTHER INFORMATION CONTACT: Ian Hamilton, AD/CVD Operations, Office II, Enforcement and Compliance, International Trade Administration, U.S. Department of Commerce, 1401 Constitution Avenue NW, Washington, DC 20230; telephone: (202) 482-4798.

SUPPLEMENTARY INFORMATION:

Background

On May 29, 2014, Commerce published its antidumping duty order on diffusion-annealed nickel-plated flat-rolled steel products from Japan in the Federal Register.¹ On April 1, 2019, Commerce published the notice of initiation of the first sunset review of the antidumping duty order on diffusion-annealed nickel-plated flat-rolled steel products from Japan,² pursuant to section 751(c) of the Tariff Act of 1930, as amended (the Act).³ Commerce received a notice of intent to participate from Thomas Steel Strip Corporation (Thomas), within the deadline specified in 19 CFR 351.218(d)(1)(i).⁴ Thomas claimed interested party status under section 771(9)(C) of the Act, as a domestic producer of diffusion-annealed nickel-plated flat-rolled steel products.

¹ See Diffusion-Annealed, Nickel-Plated Flat-Rolled Steel Products from Japan: Antidumping Duty Order, 79 FR 30816 (May 29, 2014) (Order).

² See Diffusion-Annealed, Nickel-Plated Flat-Rolled Steel Products from Japan: Antidumping Duty Order, 79 FR 30816 (May 29, 2014) (Order). Consistent with the Final Determination, we applied the following weighted-average dumping margins for the two mandatory respondents, one of which was based entirely on adverse facts available: (1) Toyo Kohan Co., Ltd., 45.42 percent; and (2) Nippon Steel & Sumitomo Metal Corporation, 77.70 percent. The All Others dumping margin was established as 45.42 percent. Id. at 30817.

³ See Initiation of Five-Year (Sunset) Review, 84 FR 12227 (April 1, 2019) (Initiation).

⁴ See Thomas' Letter, “Diffusion-Annealed, Nickel-Plated Flat-Rolled Steel Products from Japan: Notice of Intent to Participate,” dated April 16, 2019.

Commerce received a substantive response from Thomas ⁵ within the 30-day deadline specified in 19 CFR 351.218(d)(3)(i). We received no substantive response from any other domestic or interested parties in this proceeding, nor was a hearing requested.

⁵ See Thomas' Letter, “Diffusion-Annealed, Nickel-Plated Flat Steel Products from Japan: Thomas's Substantive Response to the Notice of Initiation of Five-Year (Sunset) Review of Antidumping Duty Order,” dated May 1, 2019.

On May 24, 2019, Commerce notified the U.S. International Trade Commission (ITC) that it did not receive an adequate substantive response from respondent interested parties.⁶ As a result, pursuant to section 751(c)(3)(B) of the Act and 19 CFR 351.218(e)(1)(ii)(C)(2), Commerce conducted an expedited (120-day) sunset review of this antidumping duty order.

⁶ See Commerce Letter, “Sunset Review Initiated on April 1, 2019,” dated May 24, 2019.

Scope of the Order

The diffusion-annealed, nickel-plated flat-rolled steel products included in this order are flat-rolled, cold-reduced steel products, regardless of chemistry; whether or not in coils; either plated or coated with nickel or nickel-based alloys and subsequently annealed (i.e., “diffusion-annealed”); whether or not painted, varnished or coated with plastics or other metallic or nonmetallic substances; and less than or equal to 2.0 mm in nominal thickness. For purposes of this order, “nickel-based alloys” include all nickel alloys with other metals in which nickel accounts for at least 80 percent of the alloy by volume.

Imports of merchandise included in the scope of this order are classified primarily under Harmonized Tariff Schedule of the United States (HTSUS) subheadings 7212.50.0000 and 7210.90.6000, but may also be classified under HTSUS subheadings 7210.70.6090, 7212.40.1000, 7212.40.5000, 7219.90.0020, 7219.90.0025, 7219.90.0060, 7219.90.0080, 7220.90.0010, 7220.90.0015, 7225.99.0090, or 7226.99.0180. Although the HTSUS subheadings are provided for convenience and customs purposes, the written description of the scope of this order is dispositive. For a complete description of the scope of the Order, see the accompanying Issues and Decision Memorandum.⁷

⁷ See Memorandum, “Issues and Decision Memorandum for the Expedited First Sunset Review of the Antidumping Duty Order on Diffusion-Annealed Nickel-Plated Flat-Rolled Steel Products from Japan,” dated concurrently with, and hereby adopted by, this notice (Issues and Decision Memorandum).

Analysis of Comments Received

All issues raised in this sunset review are addressed in the Issues and Decision Memorandum, which is hereby adopted by this notice. The issues discussed in the Issues and Decision Memorandum are the likelihood of continuation or recurrence of dumping, and the magnitude of the margins of dumping likely to prevail if this order were revoked. The Issues and Decision Memorandum is a public document and is on file electronically via the Enforcement and Compliance's Antidumping and Countervailing Duty Centralized Electronic Service System (ACCESS). ACCESS is available to registered users at http://access.trade.gov and in the Central Records Unit, Room B8024 of the main Commerce building. A list of topics discussed in the Issues and Decision Memorandum is included as an Appendix to this notice. In addition, a complete version of the Issues and Decision Memorandum can be accessed directly on the internet at http://enforcement.trade.gov/frn/. The signed Issues and Decision Memorandum and the electronic version of the Issues and Decision Memorandum are identical in content.

Final Results of Review

Pursuant to sections 751(c)(1) and 752(c)(1) and (3) of the Act, we determine that revocation of the antidumping duty order on diffusion-annealed nickel-plated flat-rolled steel products from Japan would be likely to lead to continuation or recurrence of dumping at weighted-average margins up to 77.70 percent.

Administrative Protective Order

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and this notice in accordance with sections 751(c), 752(c), and 777(i)(1) of the Act and 19 CFR 351.218.

Dated: July 30, 2019.
Jeffrey I. Kessler,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Dumping Margins Likely to Prevail

VII. Final Results of Sunset Review

VIII. Recommendation

[FR Doc. 2019-16654 Filed 8-2-19; 8:45 am]

BILLING CODE 3510-DS-P